DEPARTMENT OF VETERANS AFFAIRS

Privacy Act of 1974; Matching Program

AGENCY: Department of Veterans Affairs (VA).

ACTION: Notice of a new matching program.

SUMMARY: Pursuant to 5 U.S.C. 552a, the Privacy Act of 1974, as amended, and the Office of Management and Budget (OMB) Guidelines on the Conduct of Matching Programs, notice is hereby given that the Department of Veterans Affairs (VA) intends to conduct a computer matching program with the Social Security Administration (SSA). Data from the proposed match will be used to verify the earned income of nonservice-connected veterans, and those veterans who are zero percent service-connected (noncompensable), whose eligibility for VA medical care is based on their inability to defray the cost of medical care. These veterans supply household income information that includes their spouses and dependents at the time of application for VA health care benefits.

DATES: Comments on this matching program must be received no later than May 29, 2018. If no public comment is received during the period allowed for comment or unless otherwise published in the Federal Register by VA, the new agreement will become effective a minimum of 30 days after date of publication in the Federal Register or April 9, 2018, whichever is later. If VA receives public comments, VA shall review the comments to determine whether any changes to the notice are necessary. This matching program will be valid for 18 months from the effective date of this notice.

ADDRESSES: Written comments may be submitted through www.Regulations.gov; by mail or hand-delivery to Director, Regulation Policy and Management (00REG), Department of Veterans Affairs, 810 Vermont Ave. NW, Room 1064, Washington, DC 20420; or by fax to (202) 273-9026 (not a toll-free number). Comments should indicate that they are submitted in response to SSA-VA/VHA CMA #1052. Copies of comments received will be available for public inspection in the Office of Regulation Policy and Management, Room 1063B, between the hours of 8:00 a.m. and 4:30 p.m., Monday through Friday (except holidays). Please call (202) 461-4902 for an appointment. (This is not a toll-free number.) In addition, comments may be viewed online at www.Regulations.gov.

FOR FURTHER INFORMATION CONTACT: LeRoy F. Garcia, Acting Director, Health Eligibility Center (HEC), (404) 848-5300 (this is not a toll free number).

SUPPLEMENTARY INFORMATION: The Department of Veterans Affairs has statutory authorization under 38 U.S.C. 5317, 38 U.S.C. 5106, 26 U.S.C. 6103(l)(7)(D)(viii) and 5 U.S.C. 552a to establish matching agreements and request and use income information from other agencies for purposes of verification of income for determining eligibility for benefits. 38 U.S.C. 1710(a)(2)(G), 1710(a)(3), and 1710(b) identify those veterans whose basic eligibility for medical care benefits is dependent upon their financial status. Eligibility for nonservice-connected and zero percent noncompensable service-connected veterans is determined based on the veteran's inability to defray the expenses for necessary care as defined in 38 U.S.C. 1722. This determination can affect their responsibility to participate in the cost of their care through copayments and their assignment to an enrollment priority group. The goal of this match is to obtain SSA earned income information data needed for the income verification process. The VA records involved in the match are “Enrollment and Eligibility Records—VA” (147VA16). The SSA records are from the Earnings Recording and Self-Employment Income System, SSA/OEEAS 09-60-0059 and Master Files of Social Security Number Holders and SSN Applications, SSA/OEEAS, 60-0058, (referred to as “the Numident”). A copy of this notice has been sent to both Houses of Congress and OMB.

Participating Agencies: The Social Security Administration is the source agency, and the Department of Veterans Affairs is the recipient agency.

Authority for Conducting the Matching Program: Public Law 101-508, Omnibus Budget Reconciliation Act, as amended, and Public Law 104-262, Veterans Health Care Amendments Act, grant VA the authority to verify income data furnished by certain veteran applicants. This agreement is executed under the Privacy Act of 1974, 5 United States Code (U.S.C.) 552a, as amended by the Computer Matching and Privacy Protection Act of 1988, and the regulations and guidance promulgated thereunder. Legal authority for the disclosures under this agreement is 38 U.S.C. 5106 and 5317, and 26 U.S.C. 6103(l)(7)(D)(viii). Under 38 U.S.C. 1710, VA/VHA has a statutory obligation to collect income information from certain applicants for medical care and to use that income data to determine the appropriate eligibility category for the applicant's medical care. 26 U.S.C. 6103(l)(7) authorizes the disclosure of tax return information with respect to net earnings from self-employment and wages, as defined by relevant sections of the Internal Revenue Code (IRC), to Federal, state, and local agencies administering certain benefit programs under Title 38 of the U.S.C.

Purpose(s): This computer matching agreement sets forth the terms, conditions, and safeguards under which SSA will disclose tax return information to VA, Veterans Health Administration (VHA) to be used to verify Veteran's employment status and earnings to determine eligibility for its health benefit programs.

Categories of Individuals: Veterans who have applied for or have received VA health care benefits under Title 38, United States Code, Chapter 17; Veterans' spouses and other dependents as provided for in other provisions of Title 38, United States Code.

Categories of Records: Federal Tax Information (FTI) and social security information generated as a result of computer matching activity with records from the IRS and SSA. The records may also include, but are not limited to, correspondence between HEC, Veterans, their family members, and Veterans' representatives such as Veterans Service Officers (VSO); copies of death certificates; Notice of Separation; disability award letters; IRS documents (e.g., Form 1040s, Form 1099s, W-2s); workers compensation forms; and various annual earnings statements, as well as pay stubs and miscellaneous receipts.

System(s) of Records: SSA will initially access and verify submitted SSNs through the Master Files of Social Security Number Holders and SSN Applications, 60-0058, (the Enumeration System), last fully published on December 29, 2010 (75 FR 82121), and amended on July 5, 2013 (78 FR 40542), and February 13, 2014 (79 FR 8780) for verification purposes. SSA will subsequently run those verified SSNs against systems records to extract and disclose the necessary tax return information from the Earnings Recording and Self-Employment Income System, 60-0059, last fully published on January 11, 2006 (71 FR 1819), and amended on July 5, 2013 (78 FR 40542). VA/VHA will match SSA information with information extracted from its system of records (SOR) “Income Verification Records—VA” (89VA10NB). Routine use nineteen (19) permits VA/VHA to disclose identifying information, including SSNs, concerning veterans, their spouses, and dependents of veterans to Federal agencies for purposes of conducting computer matches to determine or verify eligibility of certain veterans who are receiving VA/VHA medical care under Title 38 of the U.S.C. The SORs involved in this computer matching program have routine uses permitting the disclosures needed to conduct this match.

Signing Authority

The Senior Agency Official for Privacy, or designee, approved this document and authorized the undersigned to sign and submit the document to the Office of the Federal Register for publication electronically as an official document of the Department of Veterans Affairs. John Oswalt, Executive Director for Privacy, Department of Veterans Affairs approved this document on March 19, 2018 for publication.

Dated: April 23, 2018.
Kathleen M. Mazwell,
Program Analyst, VA Privacy Service, Office of Privacy Information and Identity Protection, Office of Quality, Privacy and Risk, Office of Information and Technology, Department of Veterans Affairs.

[FR Doc. 2018-08746 Filed 4-25-18; 8:45 am]

BILLING CODE 8320-01-P